DEPARTMENT OF HOMELAND SECURITY

Transportation Security Administration

Extension Agency Information Collection Activity Under OMB Review: Aviation Security Customer Satisfaction Performance Measurement Passenger Survey

AGENCY: Transportation Security Administration (TSA), DHS.

ACTION: Notice.

SUMMARY: This notice announces that TSA has forwarded the Information Collection Request (ICR) abstracted below to the Office of Management and Budget (OMB) for review and approval of an extension of the currently approved collection under the Paperwork Reduction Act. The ICR describes the nature of the information collection and its expected burden. TSA published a Federal Register notice, with a 60-day comment period soliciting comments, of the following collection of information on March 17, 2006 (71 FR 13990).

DATES: Send your comments by July 7, 2006. A comment to OMB is most effective if OMB receives it within 30 days of publication.

ADDRESSES: Comments may be emailed to the Office of Information and Regulatory Affairs, Office of Management and Budget, DHS-TSA Desk Officer, at Nathan.lesser@omb.eop.gov.

FOR FURTHER INFORMATION CONTACT: Katrina Wawer, Attorney-Advisor, Office of Chief Counsel, TSA-02, Transportation Security Administration, 601 South 12th Street, Arlington, VA 22202-4220.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Aviation Security Customer Satisfaction Performance Measurement Passenger Survey.

Type of Request: Extension of a currently approved collection.

OMB Control Number: 1652-0013.

Forms(s): Aviation Security Customer Satisfaction Performance Measurement Passenger Survey.

Affected Public: Airline travelers.

Abstract: This airport survey represents an important part of TSA's efforts to collect data on customer satisfaction with TSA's aviation security procedures. TSA will use airport surveys to compute a statistically valid Customer Satisfaction Index for Aviation Operations (CSI-A) system-wide and for individual airports. TSA also will use informal airport surveys, conducted by airport staff, for targeted measurement.

Number of Respondents: 124,000.

Estimated Annual Burden Hours: An estimated 10,000 hours annually.

Issued in Arlington, Virginia, on May 31, 2006.
Peter Pietra,
Director, Privacy Policy and Compliance.

[FR Doc. E6-8778 Filed 6-6-06; 8:45 am]

BILLING CODE 9110-05-P